ENVIRONMENTAL PROTECTION AGENCY

[EPA-HQ-OPP-2019-0058; FRL-10000-93]

Pesticide Program Dialogue Committee (PPDC); Notice of Charter Renewal

AGENCY: Environmental Protection Agency (EPA).

ACTION: Notice.

SUMMARY: Notice is hereby given that the Environmental Protection Agency has determined that, in accordance with the provisions of the Federal Advisory Committee Act (FACA), the Pesticide Program Dialogue Committee (PPDC) is in the public interest and is necessary in connection with the performance of EPA's duties. Accordingly, PPDC will be renewed for an additional two-year period. The purpose of PPDC is to provide advice and recommendations to the EPA Administrator on issues associated with regulatory development and reform initiatives, evolving public policy and program implementation issues, and science issues associated with evaluating and reducing risks from use of pesticides.

FOR FURTHER INFORMATION CONTACT: Shannon Jewell, Designated Federal Officer, Pesticide Program Dialogue Committee (PPDC), U.S. EPA, 1200 Pennsylvania Ave. NW (mail code 7501P), Washington, DC 20460, Telephone: 703-347-0109, Email: jewell.shannon@epa.gov.

Authority: 5 U.S.C. App.2.

Dated: October 10, 2019.
Richard Keigwin,
Director, Office of Pesticide Programs.

[FR Doc. 2019-23390 Filed 10-24-19; 8:45 am]

BILLING CODE 6560-50-P